NUCLEAR REGULATORY COMMISSION

[Docket No. 52-017]

Virginia Electric And Power Company, D/B/A Dominion Virginia Power, and Old Dominion Electric Cooperative North Anna Nuclear Station Unit 3 Combined License Application; Correction and Supplement to Notice of Intent To Prepare an Environmental Impact Statement and Conduct Scoping Process

AGENCY: Nuclear Regulatory Commission.

ACTION: Correction and Supplement.

SUMMARY: This document corrects and supplements a Notice of Intent to Prepare an Environmental Impact Statement and Conduct Scoping Process (regarding an application for a combined license) published in the Federal Register on March 13, 2008 (73 FR 13589). This action is necessary: (1) To correctly identify the document the Nuclear Regulatory Commission (NRC) staff intends to prepare, the applicants for the combined license (COL) and the matters that the scoping process is intended to accomplish, (2) to inform the public and other scoping participants that alternative sites will not be considered in the review of the staff of the U.S. Nuclear Regulatory Commission (NRC or Commission) or in the environmental impact statement (EIS) prepared in connection with the COL application, and (3) to reopen the scoping comment period so as to provide the public with an opportunity to participate in the environmental scoping process, as described in 10 CFR 51.29, in regard to the correctly identified matters that the scoping process is intended to accomplish. With respect to item (3), this action provides thirty (30) days from the date of this Notice for the submission of written comments on the scope of the North Anna Unit 3 COL application environmental review. Comments should be submitted in accordance with the procedures specified in the ADDRESSES section.

DATES: The scoping comment period is reopened for thirty (30) days and closes on August 15, 2008.

SUPPLEMENTARY INFORMATION: This document corrects a notice published on March 13, 2008 (73 FR 13589). The Notice of Intent to Prepare an Environmental Impact Statement and Conduct Scoping Process is corrected as follows:

(1) On page 13589, second column, the heading is corrected to read, “Virginia Electric and Power Company d/b/a Dominion Virginia Power and Old Dominion Electric Cooperative; North Anna Power Station Combined License Application; Notice of Intent to Prepare a Supplement to the Early Site Permit Environmental Impact Statement.”

(2) On page 13589, second column, the first complete paragraph, the first two lines, replace “Dominion Nuclear Power, LLC (Dominion)” with “Virginia Electric and Power Company, doing business as Dominion Virginia Power (DVP or Dominion), and Old Dominion Electric Cooperative (ODEC).”

(3) On page 13590, in the first column, the second complete paragraph through paragraph i are removed, and replaced with the following:

On November 27, 2007, the U.S. Nuclear Regulatory Commission (NRC) issued ESP-003 to Dominion Nuclear North Anna, LLC, for the North Anna ESP Site (the site of proposed Unit 3), located in Louisa County, near Lake Anna, approximately 40 miles north northwest of Richmond, Virginia. An early site permit (ESP) is an NRC approval of a site as suitable for construction and operation of one or more new nuclear units. The NRC's detailed review of the environmental impacts of constructing and operating the proposed North Anna Unit 3 is documented in NUREG-1811, “Environmental Impact Statement for an Early Site Permit at the North Anna ESP Site,” dated December 2006. Pursuant to NRC regulations in 10 CFR 51.50(c)(1), a COL applicant referencing an ESP need not submit information or analyses regarding environmental issues that were resolved in the ESP EIS, except to the extent the COL applicant has identified new and significant information regarding such issues. Pursuant to 10 CFR 52.39, matters resolved in the ESP proceedings are considered to be resolved in any subsequent proceedings, absent identification of new and significant information.

The application dated November 27, 2007, for a COL for North Anna Unit 3 submitted by Virginia Electric and Power Company d/b/a Dominion Virginia Power and Old Dominion Electric Cooperative (Applicants) references the ESP for the North Anna ESP site, ESP-003. For a COL application that references an ESP, the NRC staff, pursuant to 10 CFR 51.75(c), prepares a supplement to the ESP EIS in accordance with 10 CFR 51.92(e). Accordingly, the purpose of this notice is to inform the public that the NRC staff will be preparing a supplement to NUREG-1811, the ESP Final EIS, in support of the review of the COL application for North Anna Unit 3 at the North Anna ESP site described in ESP-003 referenced in the COL application, and to provide the public an opportunity to participate in the environmental scoping process, as described in 10 CFR 51.29.

In accordance with 10 CFR 51.45 and 10 CFR 51.50(c)(1), the Applicants submitted an environmental report (ER) as part of the COL application, which need not contain information or analysis submitted in the ER for the ESP stage or resolved in the final EIS for the ESP stage. The ER for the COL stage, in addition to the environmental information and analyses otherwise required must provide:

a. Information to demonstrate that the design of the facility falls within the site characteristics and design parameters specified in the ESP;

b. Information to resolve any significant environmental issue that was not resolved in the ESP;

c. New and significant information related to impacts of construction and operation that were resolved in the ESP;

d. A description of the process used to identify new and significant information regarding the NRC's conclusions in the EIS for the ESP; and

e. A demonstration that all environmental terms and conditions that have been included in the ESP will be satisfied by the date of issuance of the combined license.

ADDRESSES: The COL ER is available for public inspection at the NRC Public Document Room (PDR), located at One White Flint North, 11555 Rockville Pike (first floor), Rockville, Maryland, or from the Publicly Available Records component of the NRC's Agencywide Documents Access and Management System (ADAMS). ADAMS is accessible at http://www.nrc.gov/reading-rm/adams.html, which provides access through the NRC's Electronic Reading Room (ERR) link. The accession number in ADAMS for the ER is ML073321238.

Persons who do not have access to ADAMS or who encounter problems in accessing the documents located in ADAMS should contact the NRC's PDR Reference staff at (800) 397-4209 or (301) 415-4737, or by sending an e-mail to pdr.resource@nrc.gov. The application may also be viewed on the Internet at: http://www.nrc.gov/reactors/new-licensing/col/north-anna.html. In addition, the Jefferson-Madison Regional Library in Mineral, Virginia; Hanover Branch Library in Hanover, Virginia; Orange County Library in Orange, Virginia; Salem Church Library in Fredericksburg, Virginia; and C. Melvin Snow Memorial Branch Library in Spotsylvania, Virginia have agreed to make the ER available for public inspection.

The following key reference documents related to the COL application and the NRC staff's review process are available through the NRC's Web site at http://www.nrc.gov:

a. 10 CFR Part 51, Environmental Protection Regulations for Domestic Licensing and Related Regulatory Functions,

b. 10 CFR Part 52, Licenses, Certifications, and Approvals for Nuclear Power Plants,

c. NUREG-1555, Standard Review Plans for Environmental Reviews for Nuclear Power Plants,

d. NUREG/BR-0298, Brochure on Nuclear Power Plant Licensing Process,

e. Fact Sheet on Nuclear Power Plant Licensing Process,

f. Regulatory Guide 4.2, Preparation of Environmental Reports for Nuclear Power Stations,

g. Regulatory Guide 1.206, Combined License Applications for Nuclear Power Plants,

h. NRR Office Instruction LIC-203, Procedural Guidance for Preparing Environmental Assessments and Considering Environmental Issues, and

i. NUREG-1811, Environmental Impact Statement for an Early Site Permit (ESP) at the North Anna ESP Site (Dec. 2006).

The regulations, NUREG-series documents, regulatory guides, and fact sheet can be found under Document Collections in the Electronic Reading Room on the NRC Web page.

Finally, Office Instruction LIC-203 can be found in ADAMS in two parts under accession numbers ML011710073 (main text) and ML011780314 (charts and figures).

This notice advises the public that the NRC intends to gather the information necessary to prepare a supplement to the ESP EIS related to the review of the application for a COL at the North Anna COL site in accordance with 10 CFR 51.92(e).

This notice is being published in accordance with the National Environmental Policy Act (NEPA) and NRC regulations found in 10 CFR part 51. The NRC will first conduct a scoping process for the supplement to the ESP EIS and, as soon as practicable thereafter, will prepare a draft supplement for the ESP EIS for public comment. Participation in the scoping process by members of the public and local, State, Tribal, and Federal government agencies is encouraged. Pursuant to NRC regulations in 10 CFR 51.92(e), the scoping process for the supplemental EIS to the ESP Final EIS will be used to accomplish the following:

a. Identification of the economic, technical, and other benefits and costs of the proposed action, to the extent that the EIS for the ESP did not include an assessment of these benefits and costs;

b. Identification of other energy alternatives, to the extent that the EIS for the ESP did not include an assessment of energy alternatives;

c. Identification of the issues related to the impacts of construction and operation of the facility that were not resolved in the ESP proceeding; and

d. Identification of the issues related to the impacts of construction and operation that were resolved in the ESP proceeding but where new and significant information exists, including but not limited to, new and significant information demonstrating that the design of the facility falls outside the site characteristics and design parameters specified in the ESP.

The NRC invites the following entities to participate in the scoping process:

a. The applicant, Dominion;

b. Any Federal agency that has jurisdiction by law or special expertise with respect to any environmental impact involved or that is authorized to develop and enforce relevant environmental standards;

c. Affected State and local government agencies, including those authorized to develop and enforce relevant environmental standards;

d. Any affected Indian tribe;

e. Any person who requests or has requested an opportunity to participate in the scoping process; and

f. Any person who has submitted a petition for leave to intervene.

In light of the above information, the NRC staff has determined to reopen the scoping comment period for thirty (30) days to enhance the ability of members of the public to participate in the scoping process. Members of the public may send written comments on the environmental scope of the North Anna COL application review to the Chief, Rulemaking, Directives and Editing Branch, Division of Administrative Services, Office of Administration, Mailstop T-6D59, U.S. Nuclear Regulatory Commission, Washington, DC 20555-0001 and should cite the publication date and page number of this Federal Register notice. Written comments should be postmarked by August 15, 2008. Comments may also be delivered to Room T-6D59, Two White Flint North, 11545 Rockville Pike, Rockville, Maryland from 7:30 a.m. to 4:15 p.m., during Federal workdays. Electronic comments may be sent via e-mail to NORTHANNA.COLAEIS@nrc.gov. To be considered in the scoping process, comments should be received by the end of the scoping comment period, which is August 15, 2008. The NRC staff is considering all comments submitted in response to the March 13, 2008, notice, and members of the public need not resubmit any comments previously submitted. In addition, participation in the scoping process for the supplement to the ESP EIS does not entitle participants to become parties to the proceeding to which the supplement to the EIS relates.

The NRC staff will prepare and issue for comment the draft supplemental EIS, which will be the subject of separate notices and a public meeting. A copy of the draft supplement to the ESP EIS will be available for public inspection at the above-mentioned address, and one copy per request will be provided free of charge. After receipt and consideration of the comments, the NRC staff will prepare a final supplement to the ESP EIS, which will also be available for public inspection.

Information about the scoping process and development of the supplement to ESP EIS may be obtained from Ms. Alicia Williamson, Environmental Project Manager, by phone at (301) 415-1878 or via e-mail at Alicia.Williamson@nrc.gov.

Dated at Rockville, Maryland, this 14th day of July, 2008.
For the U.S. Nuclear Regulatory Commission.
Scott C. Flanders,
Director, Division of Site and Environmental Reviews, Office of New Reactors.

[FR Doc. E8-16444 Filed 7-16-08; 8:45 am]

BILLING CODE 7590-01-P